NATIONAL SCIENCE FOUNDATION

Sunshine Act Meetings

FEDERAL REGISTER CITATION OF PREVIOUS ANNOUNCEMENT: The meeting was noticed on March 31, 2025, at 90 FR 14276.

PREVIOUSLY ANNOUNCED TIME AND DATE OF THE MEETING: Monday, March 31, 2025, from 12:30-1:30 p.m. EDT.

CHANGES IN THE MEETING: Change meeting description from Committee on Strategy to Committee on Oversight.

CONTACT PERSON FOR MORE INFORMATION: Point of contact for this meeting is: Chris Blair, cblair@nsf.gov, 703/292-7000.

Christopher Blair,
Executive Assistant to the National Science Board Office.

[FR Doc. 2025-05715 Filed 3-31-25; 11:15 am]

BILLING CODE 7555-01-P